DEPARTMENT OF COMMERCE

International Trade Administration

Reestablishment of the Renewable Energy and Energy Efficiency Advisory Committee and Solicitation of Nominations for Membership

ACTION: Notice of Reestablishment of the Renewable Energy and Energy Efficiency Advisory Committee and Solicitation of Nominations for Membership.

SUMMARY: Pursuant to provisions under the Federal Advisory Committee Act, 5 U.S.C. App., the Department of Commerce announces the reestablishment of the Renewable Energy and Energy Efficiency Advisory Committee (the Committee). The Committee shall advise the Secretary regarding the development and administration of programs and policies to expand the competitiveness of U.S. exports of renewable energy and energy efficiency goods and services, in accordance with applicable United States regulations. The Committee's work on energy efficiency will focus on technologies, services, and platforms that provide system-level energy efficiency to electricity generation, transmission, and distribution. For the purposes of this Committee, covered goods and services will not include vehicles, feedstock for biofuels, or energy efficiency as it relates to consumer goods. Non-fossil fuels that are considered renewable (e.g., liquid biofuels and pellets) are included. This notice also requests nominations for membership.

DATES: Nominations for members must be received on or before 4 p.m. Eastern Daylight Time (EDT), July 16, 2012.

Nominations: The Secretary of Commerce invites nominations to the committee of U.S. citizens who will represent U.S. companies in the renewable energy and energy efficiency sector that trade internationally, or U.S. trade associations or U.S. private sector organizations with activities focused on the competitiveness of U.S. exports of renewable energy and energy efficiency goods and services. No member may represent a company that is majority owned or controlled by a foreign government entity or foreign government entities. Nominees meeting the eligibility requirements will be considered based upon their ability to carry out the goals of the Committee as articulated above. Self-nominations will be accepted. If you are interested in nominating someone to become a member of the Committee, please provide the following information:

(1) Name, title, and relevant contact information (including phone, fax, and email address) of the individual requesting consideration;

(2) Sponsor letter on the company's, trade association's, or organization's letterhead containing a brief description why the nominee should be considered for membership, including the nominee's ability to meet the expected time commitments of Committee work. Committee work includes the ability to attend in person approximately four committee meetings a year (lasting one day each), plus additional work outside of full committee meetings including subcommittee conference calls or meetings as needed, and frequently draft, prepare, or comment on proposed recommendations to be evaluated at Committee meetings;

(3) Short biography of nominee including credentials;

(4) Brief description of the company, trade association, or organization to be represented and its business activities; company size (number of employees and annual sales); and export markets served;

(5) An affirmative statement that the nominee is not a Federally registered lobbyist, and that the nominee understands that if appointed, the nominee will not be allowed to continue to serve as a Committee member if the nominee becomes a Federally registered lobbyist;

(6) An affirmative statement that the nominee meets all Committee eligibility requirements. Please do not send company, trade association, or organization brochures or any other information.

Nominations may be emailed to jennifer.derstine@trade.gov or faxed to the attention of Jennifer Derstine at 202-482-5665, or mailed to Jennifer Derstine, Office of Energy & Environmental Industries, Room 4053, U.S. Department of Commerce, 1401 Constitution Avenue NW., Washington, DC 20230, and must be received before July 16, 2012. Nominees selected for appointment to the Committee will be notified by return mail.

FOR FURTHER INFORMATION CONTACT: Jennifer Derstine, Office of Energy & Environmental Industries, Room 4053, U.S. Department of Commerce, 1401 Constitution Avenue NW., Washington, DC 20230; phone 202-482-3889; fax 202-482-5665; email jennifer.derstine@trade.gov.

Dated: June 20, 2012.
Brian P. O'Hanlon,
Acting Director, Office of Energy and Environmental Industries.

[FR Doc. 2012-15529 Filed 6-25-12; 8:45 am]

BILLING CODE 3510-DR-P